DEPARTMENT OF ENERGY

Western Area Power Administration

Havre-Rainbow Transmission Line Rebuild Project

AGENCY: Western Area Power Administration, DOE.

ACTION: Notice of floodplain/wetlands involvement.

SUMMARY: The Western Area Power Administration (Western) intends to rebuild the Havre-Rainbow 161 kilovolt (kV) Transmission Line in central Montana. This will initially require replacement of structures. Eventually, conductors will be replaced and overhead groundwires and fiber optic cable may be added. The line lies north and west of the Missouri River and crosses the Marias and Teton Rivers near Loma, Montana, and the Big Sandy Creek near Big Sandy, Montana.

In accordance with the U.S. Department of Energy (DOE) Floodplain/Wetland Review Requirements (10 CFR part 1022), Western will prepare a floodplain assessment and will perform the proposed actions in a manner so as to avoid or minimize potential harm to or within the affected floodplain. The floodplain assessment will be included in the Environmental Assessment being prepared by Western, in accordance with the provisions of the DOE National Environmental Policy Act Implementing Procedures (10 CFR part 1021).

DATES: Comments on the proposed floodplain action are due to the address below no later than January 22, 2002.

FOR FURTHER INFORMATION CONTACT: Comments should be addressed to Mr. Theodore Anderson, Environmental Specialist, Upper Great Plains Customer Service Region, Western Area Power Administration, P.O. Box 35800, Billings, Montana 59107-5800, e-mail tanderso@wapa.gov. For further information on DOE Floodplain/Wetlands Environmental Review Requirements, contact Ms. Carol M. Borgstrom, Director, NEPA Policy and Compliance, EH-42, U.S. Department of Energy, 1000 Independence Avenue, SW., Washington, DC 20585, telephone (202) 586-4600 or (800) 472-2756.

SUPPLEMENTARY INFORMATION: The existing Havre-Rainbow Transmission Line is approximately 103 miles long and approximately 60 years old. The action will entail the removal of the existing structures and reinstalling the new structures. At some time in the future Western may reconductor the line to 230-kV and install overhead groundwires and fiber optic cable. Most ground disturbances will take place where the structures are replaced, at the splice points, and at pulling sites of the possible future installation of conductor, overhead groundwire, and fiber optic cable. Access roads for the line exist and may need to be improved. There may also be a need for additional access trails or roads to individual structure locations. The work will take place over a 10-year period by an in-house workforce.

The line crosses the Marias and Teton Rivers, at their confluence with the Missouri River near Loma, Montana, and Big Sandy Creek near Big Sandy, Montana. The line will affect lands mostly in private ownership (grazing and cultivated lands), but will also cross Indian allotted lands on the Rocky Boys Indian Reservation. There may also be lands managed by the Bureau of Land Management and lands belonging to the State of Montana along the route.

Issued: December 12, 2001.
Michael S. Hacskaylo,
Administrator.

[FR Doc. 01-31352 Filed 12-19-01; 8:45 am]

BILLING CODE 6450-01-P